NUCLEAR REGULATORY COMMISSION

[Docket No. 50-309]

Finding of No Significant Impact Related to Maine Yankee Atomic Power Company's License Amendment Request for Approval of the License Termination Plan

I. Introduction

The U.S. Nuclear Regulatory Commission (NRC) is considering issuance of an amendment to Facility Operating License No. DPR-36, issued to Maine Yankee Atomic Power Company (the licensee), for the Maine Yankee Atomic Power Station (Maine Yankee), located in Lincoln County, Maine. The license amendment is related to the licensee's License Termination Plan (LTP). An environmental assessment (EA) was performed by the NRC staff in support of it's review of the license amendment request, in accordance with the requirements of 10 CFR Part 51. The conclusion of the EA is a Finding of No Significant Impact (FONSI).

II. EA Summary

The proposed action would amend Facility Operating License DPR-36 to approve the Maine Yankee LTP. The proposed action is in accordance with the licensee's application dated October 15, 2002.

As described in the EA, the NRC staff found no significant impacts based on it's review of the adequacy of the radiation release criteria and the adequacy of the final status survey to meet NRC's unrestricted release criteria. Also, further described in the EA, the NRC staff focused it's review on land use, ground and surface water, and human health and considered potential non-radiological, radiological, and cumulative impacts. In reviewing the LTP the staff also determined that the environmental impacts were enveloped by the generic analysis performed in support of “Radiological Criteria for License Termination” (62 FR 39058).

III. Finding of No Significant Impact

Based on this review, the NRC staff has concluded that there are no significant environmental impacts on the quality of the human environment. Accordingly, the staff has determined that preparation of an Environmental Impact Statement is not warranted.

IV. Further Information

The licensee's request for the proposed action (ADAMS Accession No: ML022970110) and the NRC's complete Environmental Assessment (ADAMS Accession No.: ML030340122), and other related documents to this proposed action are available for public inspection and copying for a fee at NRC's Public Document Room at NRC Headquarters, One White Flint North, 11555 Rockville Pike, Rockville, Maryland 20852. These documents, along with most others referenced in the EA, are available for public review through ADAMS, the NRC's electronic reading room, at: http://www.nrc.gov/reading-rm/adams.html.

Any questions with respect to this action should referred to John Buckley, Decommissioning Branch, Mailstop T-7F19, Division of Waste Management, Office of Nuclear Materials Safety and Safeguards, U.S. Nuclear Regulatory Commission, Washington, DC 20555-0001. Telephone: (301) 415-6607.

Dated at Rockville, Maryland, this 24th day of February, 2003.
For the Nuclear Regulatory Commission,
Larry W. Camper,
Chief, Decommissioning Branch, Division of Waste Management, Office of Nuclear Material Safety and Safeguards.

[FR Doc. 03-4751 Filed 2-27-03; 8:45 am]

BILLING CODE 7590-01-P